DEPARTMENT OF DEFENSE

Department of the Army

Advisory Committee on Arlington National Cemetery; Notice of Federal Advisory Committee Meeting

AGENCY: Department of the Army, DoD.

ACTION: Notice of Federal Advisory Committee meeting; cancellation.

SUMMARY: The Department of the Army published a Federal Advisory Committee meeting of the Advisory Committee on Arlington National Cemetery notice in the Federal Register on Tuesday, June 26, 2018. The meeting was to take place on July 26, 2018, but is now cancelled.

FOR FURTHER INFORMATION CONTACT: Mr. Timothy Keating; Alternate Designated Federal Officer for the Committee, in writing at Arlington National Cemetery, Arlington VA 22211, or by email at timothy.p.keating.civ@mail.mil, or by phone at 1-877-907-8585.

SUPPLEMENTARY INFORMATION: None.

Brenda S. Bowen,
Army Federal Register Liaison Officer.

[FR Doc. 2018-14713 Filed 7-9-18; 8:45 am]

BILLING CODE 5001-03-P